DEPARTMENT OF HEALTH AND HUMAN SERVICES

National Institutes of Health

National Cancer Institute; Amended Notice of Meeting

Notice is hereby given of a change in the meeting of the National Cancer Institute Special Emphasis Panel, April 7, 2008, 8 a.m. to April 7, 5 p.m., Gaithersburg Hilton, 620 Perry Parkway, Gaithersburg, MD, 20877 which was published in the Federal Register on February 15, 2008, 73FR8886-8887.

This notice is amended to change the name from “Biosensors for Early Cancer Detection & Risk Assessment/Novel & Improved Methods to Measure Cancer Epigenetic Biomarkers” to “Biosensors/Cancer Epigenetic Biomarkers”. The meeting is closed to the public.

Dated: February 25, 2008.
Jennifer Spaeth,
Director, Office of Federal Advisory Committee Policy.

[FR Doc. 08-908 Filed 2-29-08; 8:45 am]

BILLING CODE 4140-01-M